DEPARTMENT OF THE INTERIOR

Bureau of Land Management

[13X LLIDI02000.L71220000.EO0000.LVTFD1300100 241A 4500074169]

DEPARTMENT OF AGRICULTURE

Forest Service

Notice of Availability of the Final Environmental Impact Statement for the Proposed Smoky Canyon Mine, Panels F and G Lease and Mine Plan Modification Project, Caribou County, ID

AGENCIES: Bureau of Land Management, Interior; United States Forest Service, Agriculture.

ACTION: Notice of availability.

SUMMARY: In accordance with the National Environmental Policy Act of 1969 (NEPA), the Bureau of Land Management (BLM) and the U.S. Department of Agriculture, Forest Service (USFS), Caribou-Targhee National Forest (CTNF), have prepared a Final Environmental Impact Statement (EIS) for the proposed Smoky Canyon Mine, Panels F and G Lease and Mine Plan Modification Project, and by this Notice announce the availability of the document. A Draft USFS Record of Decision (ROD) is also being made available along with the Final EIS.

DATES: The BLM will issue its ROD no sooner than 30 days after the Environmental Protection Agency publishes its Notice of Availability (NOA) of the Final EIS in the Federal Register. A legal notice published in the newspaper of record of the Final USFS ROD will be released no sooner than five business days following the end of the 45-day objection period after the Draft USFS ROD has been announced and made available.

ADDRESSES: CD-ROM and print copies of the Smoky Canyon Mine, Panels F & G Lease and Mine Plan Modification Project Final EIS and the Draft USFS ROD are available in the BLM Pocatello Field Office at the following address: 4350 Cliffs Drive, Pocatello, ID 83204. In addition, electronic copies of the Final EIS and the Draft USFS ROD are available at either of the Web addresses listed below:

• http://www.blm.gov/id/st/en/prog/nepa_register/smoky-canyon_panel-g.html

• http://www.fs.usda.gov/projects/ctnf/landmanagement/projects

FOR FURTHER INFORMATION CONTACT: Diane Wheeler, BLM Pocatello Field Office, 4350 Cliffs Drive, Pocatello, ID 83204, phone 208-557-5839, fax 208-478-6376. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The J.R. Simplot Company (Simplot) submitted lease and mine plan modifications for agency review for the existing Panel F (lease IDI-27512) and Panel G (lease IDI-01441) leases at the Smoky Canyon Phosphate Mine within the CTNF in Caribou County, Idaho. The Smoky Canyon Mine, operated by Simplot, is located approximately 10 miles west of Afton, Wyoming, and approximately 8 miles west of the Idaho/Wyoming border. The existing Smoky Canyon mining and milling operations were authorized in 1982 by a mine plan approval issued by the BLM and special use authorizations issued by the USFS for off-lease activities, supported by the Smoky Canyon Mine Final EIS and ROD. Mining operations began in Panel A in 1984 and have continued since then with the mining of Panels A through E. In 2007, the BLM and USFS published a Final EIS. RODs approving a mining and reclamation plan for Panels F and G and associated off-lease disturbance were issued in 2008 (Final EIS and RODs available at: http://www.fs.usda.gov/detail/ctnf/landmanagement/resourcemanagement/?cid=FSM8_047870).

The Final EIS for the Panels F and G Lease and Mine Plan Modification Project tiers to the 2007 Final EIS. Applicable information from the 2007 Final EIS is incorporated by reference throughout the Final EIS. Panel F is contiguous with the south end of the existing mine Panel E, and Panel G is located approximately one mile southwest of Panel F. Mining activities associated with Panel F were initiated in 2008 and are ongoing. Mining activities associated with Panel G have been initiated through the early stages of haul road construction.

The proposed lease and mine plan modifications at Panels F and G of the Smoky Canyon Mine area would occur on Federal phosphate leases administered by the BLM, situated on National Forest System (NFS) lands, and on un-leased parcels of NFS lands. The NFS lands involved lie within the Montpelier and Soda Springs Ranger Districts of the CTNF. The existing leases grant the lessee, Simplot, exclusive rights to mine and otherwise dispose of the federally-owned phosphate deposit at the site.

As directed by the Mineral Leasing Act of 1920, the BLM will evaluate the information in the Final EIS and respond to the lease and mine plan modifications and issue decisions related to the development of the phosphate leases. The BLM will review the impacts of alternatives to the Proposed Action, including the No Action Alternative, and decide whether to approve the proposed lease and mine plan modifications. The USFS will make recommendations to the BLM concerning surface management and mitigation on leased lands within the CTNF, and decisions on special use authorizations for off-lease activities. The BLM, as the Federal lease administrator, is the lead agency for the Final EIS. The USFS is the co-lead agency and the Idaho Department of Environmental Quality is a cooperating agency. The Final EIS was prepared to provide decision-makers and the public with an evaluation of the environmental impacts, including those that may have significant impacts resulting from the Proposed Action and from all reasonable action alternatives analyzed, as well as the No Action alternative.

The Proposed Action, submitted in February 2013, consists of the agencies' approval of a proposal for lease and mine plan modifications for Panels F and G at the Smoky Canyon Mine. The proposed modifications to Panel F are related to the construction and use of an ore conveyance system between Panel F and the existing mill. The proposed conveyance system would generally follow the existing haul road and would deviate only where engineering constraints dictate (i.e., too tight a corner on the road to construct the conveyor due to vertical and/or horizontal design limitations), such as at the north end of Panel F where Simplot is requesting a special use authorization to construct a portion of the ore conveyor off lease. Construction of the conveyor would eliminate the need to haul ore to the mill via haul trucks from Panels F and G, although the haul road would remain open so that equipment could be transported to the shop for maintenance. The proposed 4.5-mile conveyor system would include a crusher and stockpile location on lease in Panel F.

There are three components to the proposed modification of Panel G: (1) Modification (enlargement) of lease IDI-01441 by 280 acres to accommodate the expansion of the previously approved east overburden disposal area (ODA); (2) increase the on-lease disturbance area of the previously approved south ODA by 20 acres for the temporary storage of chert to be used for reclamation; and (3) utilization of a geosynthetic clay laminate liner (GCLL) instead of the currently approved geologic store and release cover over the in-pit backfill and the east external ODA. The current lease area for Panel G is not large enough to allow for maximum ore recovery and the necessary overburden disposal. Backfilling into the pit is limited due to existing topographic constraints, rehandling issues, and safety concerns when backfilling and mining concurrently within Panel G's pit configuration. The lease modification is necessary to accommodate all of the overburden generated from mining Panel G, as analyzed in the 2007 Final EIS. At the time the RODs for the 2007 Final EIS were issued, neither the BLM nor the USFS had the regulatory authority to approve Simplot's original plan for overburden storage. In 2009, the rules were modified giving the BLM authority to approve a lease modification for the purpose of overburden storage.

Regional mitigation strategies for cumulative effects from phosphate mining to wildlife habitat are currently being developed in the Pocatello Field Office. However, regional mitigation will not be applied in this case because the proposed action would not result in impacts drastically different than those from the existing mine plan already approved in 2008 (evaluated as the No Action Alternative in the Final EIS).

In an effort to further reduce or eliminate water quality impacts due to increasing the size of the currently approved mine, Simplot is proposing to cover all overburden that has potential to mobilize selenium and other contaminants in Panel G with a GCLL. Simplot believes that using a GCLL will result in increased long-term environmental protection and may lend itself to a more expeditious review of the proposed modifications. Stormwater control features are included in the proposal to address surface water run-off from the GCLL. It is estimated that up to 11 acres of new disturbance would be necessary for these stormwater features. Portions of these features would be situated on lease, within the proposed lease modification area, or off lease. Off-lease disturbance would require USFS special use authorization.

Compared to the 1,340 acres analyzed in the 2007 Final EIS, the Proposed Action would add approximately 170 acres of new disturbance. This includes 8 acres for the ore conveyor system (mostly at the north end of Panel F); 20 acres for the Panel G south ODA expansion of temporary chert storage; 11 acres for stormwater control features to address run-off from the GCLL at Panel G; and 131 acres for the Panel G east seleniferous ODA expansion.

Two additional Action Alternatives were developed to address concerns raised during public scoping for the Draft EIS about the long term durability and use of a synthetic liner such as a GCLL at Panel G and/or reducing the amount of new disturbance within the Inventoried Roadless Area (IRA). Alternatives 1 and 2 would include all components of the Proposed Action, but would limit use of the GCLL by utilizing the previously approved geologic store and release cover on portions of the disturbed areas. In addition, Alternative 2 would reduce the east ODA expansion within the Sage Creek IRA by approximately 45 acres and reduce the proposed lease modification area by approximately 40 acres. Alternative 2 is the Agency Preferred Alternative.

Under the No Action Alternative in the Final EIS, the proposed lease and mine plan modifications and special use authorizations would not be approved, and mining would continue under the current mine plan as approved by the 2008 RODs. Under the No Action Alternative, Simplot estimates that approximately 50 percent of the phosphate ore in Panel G, previously considered economically recoverable, would not be mined but the overall disturbance would remain unchanged from the 2008 mine plan approval. In addition, the proposed conveyor system would not be approved, thus no new disturbance associated with the conveyor would occur. The previously approved geologic store and release cover would be used to limit or prevent the release of contaminants to the environment.

A Notice of Intent (NOI) to prepare this EIS was published in the Federal Register on June 24, 2013. Publication of the NOI in the Federal Register initiated a 30-day public scoping period for the Proposed Action that provided for acceptance of written comments. The scoping process identified concerns that primarily involved impacts to water resources and watersheds, and selenium contamination, but also included potential effects and/or cumulative effects of the proposed project on IRAs, wetlands, climate change, socioeconomics, visual resources, and mitigation and monitoring for mine operations.

The NOA for the Draft EIS was published in the Federal Register on May 30, 2014. A 45-day comment period on the Draft EIS commenced with publication of the Environmental Protection Agency's NOA of the Draft EIS, and ended on July 15, 2014. Agencies, organizations, and interested parties provided comments on the Draft EIS via mail, email, and public meetings. A total of seven comment letters were received. In developing responses to these comments, the agencies have added mitigation features to the Proposed Action and Alternatives 1 and 2 in the Final EIS, for example:

• An Adaptive Management Plan was added as an appendix, which addresses potential surface water and groundwater quality issues through an adaptive approach.

• A fourth wildlife crossing was incorporated into the design of the ore conveyor system at the Sage Creek drainage.

• Access to a series of proposed stormwater ponds at Panel G was revised to be south from the mine rather than north from the Wells Canyon Road, eliminating a segment of access road that would have impacted a small wetland area.

• Because the segment of access road to the proposed series of stormwater ponds was eliminated, disturbance and associated impacts to waters of the U.S., including wetlands, were eliminated. Therefore, a revised U.S. Army Corps of Engineers permit would not be required.

• Additional water quality data were added to the Final EIS.

• Specific information regarding the timing and construction of the GCLL was added to the Final EIS.

The portion of the proposed project related to USFS special use authorizations for off-lease activities is subject to the objection process pursuant to 36 CFR 218 Subparts A and B. Instructions for filing objections will be provided in the legal notice published in the newspaper of record for the Draft USFS ROD. Objections will be accepted only from those who have previously submitted specific written comments regarding the proposed project either during scoping or other designated opportunities for public comment in accordance with 36 CFR 218.5(a). Issues raised in objections must be based on previously submitted, timely, and specific written comments regarding the proposed project unless based on new information arising after designated opportunities. The portion of any subsequent decision issued by BLM regarding the proposed mine plan and lease modifications would be appealable under procedures found in 43 CFR 4.

Please note that public comments and information submitted including names, street addresses, and email addresses of respondents will be available for public review and disclosure at the BLM Pocatello Field Office during regular business hours (8 a.m. to 4 p.m.), Monday through Friday, except holidays.

Authorities: 42 U.S.C. 4321 et seq.; 40 CFR parts 1500-1508; 43 CFR part 46; 43 U.S.C. 1701; 43 CFR part 3590; 16 U.S.C. 551; 36 CFR part 218; and 36 CFR part 251.50.

Joe Kraayenbrink,
District Manager, Idaho Falls District, Bureau of Land Management.
Garth Smelser,
Forest Supervisor, Caribou-Targhee National Forest.

[FR Doc. 2015-07012 Filed 3-26-15; 8:45 am]

BILLING CODE 4310-GG-P